DEPARTMENT OF COMMERCE

International Trade Administration

[A-570-909]

Certain Steel Nails From the People's Republic of China: Preliminary Results of the Antidumping Duty Administrative Review and Preliminary Determination of No Shipments; 2017-2018

AGENCY: Enforcement and Compliance, International Trade Administration, Department of Commerce

SUMMARY: The Department of Commerce (Commerce) preliminarily determines that certain steel nails (nails) from the People's Republic of China (China) were sold in the United States at less than normal value (NV) during the period of review (POR), August 1, 2017 through July 31, 2018.

DATES: Applicable October 18, 2019.

FOR FURTHER INFORMATION CONTACT: Annathea Cook or Benito Ballesteros, AD/CVD Operations, Office V, Enforcement and Compliance, International Trade Administration, U.S. Department of Commerce, 1401 Constitution Avenue NW, Washington DC 20230; telephone: (202) 482-0250 or (202) 482-7425, respectively.

SUPPLEMENTARY INFORMATION:

Background

On October 4, 2018, Commerce published in the Federal Register the notice of initiation of an administrative review of the antidumping duty order on nails from China ¹ for the POR, August 1, 2017 through July 31, 2018.² Commerce initiated a review with respect to 213 companies.³ Pursuant to section 777A(c)(2)(A) of the Tariff Act of 1930, as amended (the Act), Commerce selected three mandatory respondents, The Stanley Works (Langfang) Fastening Systems Co., Ltd. and Stanley Black & Decker, Inc. (collectively, Stanley), Shanxi Pioneer Hardware Industrial Co., Ltd. (Pioneer), and Tianjin Universal Machinery Imp. & Exp. Corporation (Universal).⁴ On May 13, 2019, Commerce fully extended the deadline for issuing the preliminary results to October 10, 2019.⁵

¹ See Notice of Antidumping Duty Order: Certain Steel Nails from the People's Republic of China, 73 FR 44961 (August 1, 2008).

² See Initiation of Antidumping and Countervailing Duty Administrative Reviews, 83 FR 50077 (October 4, 2018); See also corrections in Initiation of Antidumping and Countervailing Duty Administrative Reviews, 8 FR 57411, 57414 n.6 (November 15, 2018); and Initiation of Antidumping and Countervailing Duty Administrative Reviews, 84 FR 2159, 2168 n.7 (February 6, 2019) (collectively, Initiation Notice).

³ Id.

⁴ See Memorandum, “Respondent Selection for Certain Steel Nails from the People's Republic of China: Sampling Meeting with Outside Parties,” dated May 10, 2019.

⁵ See Memorandum, “Deadlines Affected by the Partial Shutdown of the Federal Government,” dated January 28, 2019. Commerce exercised its discretion to toll all deadlines affected by the closure of the Federal Government from December 22, 2018, through January 28, 2019. See also Memorandum, “Ninth Antidumping Duty Administrative Review of Certain Steel Nails from the People's Republic of China: Extension of Deadline for Preliminary Results of Antidumping Duty Administrative Review,” dated May 13, 2019.

Scope of the Order

The products covered by this review are certain steel nails from China. For a full description of the scope, see the Preliminary Decision Memorandum, dated concurrently with and hereby adopted by this notice.⁶

⁶ See Memorandum, “Decision Memorandum for the Preliminary Results of the 2017-2018 Antidumping Duty Administrative Review: Certain Steel Nails from the People's Republic of China,” dated concurrently with this notice (Preliminary Decision Memorandum).

Preliminary Determination of No Shipments

Based on the no-shipments letters filed by 11 companies, Commerce preliminarily determined that these companies had no shipments during the POR.⁷ For additional information regarding this determination, including a list of these companies, see the Preliminary Decision Memorandum. Consistent with our assessment practice in non-market economy (NME) administrative reviews, Commerce is not rescinding this review for these companies, but intends to complete the review and issue appropriate instructions to CBP based on the final results of the review.⁸

⁷ Although Shanxi Yuci Broad Wire Products Co., Ltd. and Certified Products International Inc. each submitted a no shipments letter, they are not among the 213 companies initiated on in this review, and therefore are not subject to this review. Therefore, we only evaluated the no shipment claims of the thirteen companies that submitted no shipments letters and for which this review was initiated.

⁸ See Non-Market Economy Antidumping Proceedings: Assessment of Antidumping Duties, 76 FR 65694, 65694-95 (October 24, 2011) and the “Assessment Rates” section, below.

Separate Rates

Commerce preliminarily determined that information placed on the record by the three mandatory respondents, as well as by the 17 other separate rate applicants, demonstrates that these companies are entitled to separate rate status. See Preliminary Results of Review section below. For additional information, see the Preliminary Decision Memorandum.

China-Wide Entity

Commerce's policy regarding conditional review of the China-wide entity applies to this administrative review.⁹ Under this policy, the China-wide entity will not be under review unless a party specifically requests, or Commerce self-initiates, a review of the entity. Because no party requested a review of the China-wide entity in this review, the entity is not under review and the weighted-average dumping margin determined for the China-wide entity is not subject to change (i.e., 118.04 percent) as a result of this review.¹⁰ Aside from the companies discussed above, Commerce considers all other companies for which a review was requested ¹¹ to be part of the China-wide entity. For additional information, see the Preliminary Decision Memorandum; see also Appendix I for a list of companies considered as part of the China-wide entity.

⁹ See Antidumping Proceedings: Announcement of Change in Department Practice for Respondent Selection in Antidumping Duty Proceedings and Conditional Review of the Nonmarket Economy Entity in NME Antidumping Duty Proceedings, 78 FR 65963 (November 4, 2013) (Sampling Methodology Notice).

¹⁰ Id.; Certain Steel Nails from the People's Republic of China: Final Results of Antidumping Duty Administrative Review; 2012-2013, 80 FR 18816, 18817 and accompanying Issues and Decision Memorandum.

¹¹ See Appendix I.

Sample Rate Calculation

In the Sampling Methodology Notice, we stated that, in order to calculate a rate to assign the non-selected companies when using a sampling procedure, Commerce will calculate a “sample rate” based upon an average of the rates for the selected respondents, weighted by the import share of their corresponding strata.¹² The respondents selected for individual examination through the sampling process will receive their own rates; all companies in the sample population who were not selected for individual examination will receive the sample rate.¹³ Accordingly, we have calculated the sample rate by averaging the rates for the three selected respondents, weighted by the import share of their corresponding strata.¹⁴ The non-selected companies entitled to a separate rate have been assigned the sample rate. For additional information and a discussion of the issues examined with regard to the calculation of the sample rate, see the Preliminary Decision Memorandum.

¹² See Sampling Methodology Notice, 78 FR at 65965.

¹³ Id.

¹⁴ See Memorandum, “Preliminary Results of the Tenth Antidumping Administrative Review of Certain Steel Nails from the People's Republic of China: Calculation of the Sample Rate for Respondents Not Selected for Individual Examination,” dated concurrently with this memorandum (Sample Rate Memorandum).

Methodology

Commerce is conducting this review in accordance with sections 751(a)(1)(B) and 751(a)(2)(A) of the Act. Constructed export prices and export prices have been calculated in accordance with section 772 of the Act. Because China is an NME country within the meaning of section 771(18) of the Act, NV has been calculated in accordance with section 773(c) of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov and is available to all parties in the Central Records Unit, room B8024 of the main Department of Commerce building. In addition, a complete version of the Preliminary Decision Memorandum can be accessed directly on the internet at http://enforcement.trade.gov/frn/. The signed Preliminary Decision Memorandum and the electronic versions of the Preliminary Decision Memorandum are identical in content.

Preliminary Results of Review

Commerce preliminarily determines that the following weighted-average dumping margins exist for the period August 1, 2017 through July 31, 2018:

Exporter/producer | Weighted- average dumping margin
Shanxi Pioneer Hardware Industrial Co., Ltd | 13.88
The Stanley Works (Langfang) Fastening Systems Co., Ltd. and Stanley Black & Decker, Inc | 19.03
Tianjin Universal Machinery Imp. & Exp. Corporation | 118.04
Dezhou Hualude Hardware Products Co., Ltd | 35.57
Hebei Cangzhou New Century Foreign Trade Co., Ltd | 35.57
Mingguang Ruifeng Hardware Products Co., Ltd | 35.57
Nanjing Caiqing Hardware Co., Ltd | 35.57
Qingdao D&L Group Ltd | 35.57
SDC International Aust. Pty. Ltd | 35.57
Shandong Qingyun Hongyi Hardware Products Co., Ltd | 35.57
Shanghai Curvet Hardware Products Co., Ltd | 35.57
Shanghai Yueda Nails Industry Co., Ltd. a.k.a Shanghai Yueda Nails Co., Ltd | 35.57
Shanxi Hairui Trade Co., Ltd | 35.57
Shanxi Tianli Industries Co., Ltd | 35.57
S-Mart (Tianjin) Technology Development Co., Ltd | 35.57
Suntec Industries Co., Ltd | 35.57
Tianjin Jinchi Metal Products Co., Ltd | 35.57
Tianjin Jinghai County Hongli Industry & Business Co., Ltd | 35.57
Tianjin Zhonglian Metals Ware Co., Ltd | 35.57
Xi'an Metals and Minerals Import & Export Co., Ltd | 35.57

Disclosure

Commerce intends to disclose to interested parties the calculations performed in connection with these preliminary results within five days of its public announcement or, if there is no public announcement, within five days of the date of publication of this notice in accordance with 19 CFR 351.224(b).

Public Comment

Case briefs or other written comments may be submitted to the Assistant Secretary for Enforcement and Compliance no later than 30 days after the date of publication of these preliminary results, unless the Secretary alters the time limit. Rebuttal briefs, limited to issues raised in case briefs, may be submitted no later than five days after the deadline date for case briefs.¹⁵ Pursuant to 19 CFR 351.309(c)(2) and (d)(2), parties who submit case briefs or rebuttal briefs in this administrative review are encouraged to submit with each argument: (1) A statement of the issue; (2) a brief summary of the argument; and (3) a table of authorities.

¹⁵ See 19 CFR 351.309; see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at the U.S. Department of Commerce, 1401 Constitution Avenue NW, Washington, DC, 20230, at a time and date to be determined. Parties should confirm by telephone the date, time, and location of the hearing two days before the scheduled date.

Commerce intends to issue the final results of this administrative review, which will include the results of our analysis of all issues raised in the case briefs, within 120 days of publication of these preliminary results in the Federal Register, pursuant to section 751(a)(3)(A) of the Act, unless extended.

Assessment Rates

Upon issuance of the final results, Commerce will determine, and CBP shall assess, antidumping duties on all appropriate entries covered by this review.¹⁶ Commerce intends to issue assessment instructions to CBP 15 days after the publication date of the final results of this review.

¹⁶ See 19 CFR 351.212(b).

For any individually examined respondent whose weighted average dumping margin is not zero or de minimis (i.e., less than 0.50 percent) in the final results of this review, Commerce will calculate importer-specific assessment rates on the basis of the ratio of the total amount of dumping calculated for the importer's examined sales to the total entered value of those sales, in accordance with 19 CFR 351.212(b)(1). Where an importer-specific ad valorem rate is not zero or de minimis, Commerce will instruct CBP to collect the appropriate duties at the time of liquidation.¹⁷ Where either a respondent's weighted-average dumping margin is zero or de minimis, or an importer-specific ad valorem assessment rate is zero or de minimis, Commerce will instruct CBP to liquidate appropriate entries without regard to antidumping duties.¹⁸

¹⁷ See 19 CFR 351.212(b)(1).

¹⁸ See 19 CFR 351.106(c)(2).

Cash Deposit Requirements

The following cash deposit requirements will be effective upon publication of the final results of this review for shipments of the subject merchandise from China entered, or withdrawn from warehouse, for consumption on or after the publication date, as provided by sections 751(a)(2)(C) of the Act: (1) For the companies listed above that have a separate rate, the cash deposit rate will be equal to the weighted-average dumping margin established in the final results of this review (except, if the rate is de minimis, then cash deposit rate will be zero); (2) for previously examined China and non-China exporters not listed above that at the time of entry are eligible for a separate rate based on a prior completed segment of this proceeding, the cash deposit rate will continue to be the existing exporter-specific cash deposit rate; (3) for all China exporters of subject merchandise that have not been found to be entitled to a separate rate at the time of entry, the cash deposit rate will be that for the China-wide entity (i.e., 118.04 percent); and (4) for all non-China exporters of subject merchandise which at the time of entry are not eligible for a separate rate, the cash deposit rate will be the rate applicable to the China exporter that supplied that non-China exporter. These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification to Interested Parties

This preliminary determination is issued and published in accordance with sections 751(a)(1) and 777(i)(1) of the Act.

Dated: October 10, 2019.
Christian Marsh,
Deputy Assistant Secretary for Enforcement and Compliance.

Appendix I—China-Wide Entity

1. Air It on Inc.

2. A-Jax Enterprises Ltd.

3. A-Jax International Co. Ltd.

4. Anhui Amigo Imp. & Exp. Co. Ltd.

5. Anhui Tea Imp. & Exp. Co. Ltd.

6. Asiahan Industrial Trading Ltd.

7. Baoding Jieboshun Trading Co., Ltd.

8. Beijing Catic Industry Ltd.

9. Beijing Jinheung Co., Ltd.

10. Beijing Qin-Li Jeff Trading Co., Ltd.

11. Beijing Qin-Li Metal Industries Co., Ltd.

12. Bodi Corporation.

13. Cana (Rizhou) Hardward Co. Ltd.

14. Cangzhou Nandagang Guotai Hardware Products Co., Ltd.

15. Cangzhou Xinqiao Int'l Trade Co. Ltd.

16. Certified Products Taiwan Inc.

17. Changzhou Kya Trading Co. Ltd.

18. Chanse Mechatronics Scientech Development (Jiangsu) Inc.

19. Chia Pao Metal Co. Ltd.

20. China Dinghao Co. Ltd.

21. China Staple Enterprise Co. Ltd.

22. Chinapack Ningbo Imp. & Exp. Co. Ltd.

23. Chite Enterprise Co. Ltd.

24. Chonyi International Co. Ltd.

25. Crelux Int'l Co. Ltd.

26. Daejin Steel Co. Ltd.

27. Dingzhou Baota Metal Products Co. Ltd.

28. Dong E Fuqiang Metal Products Co. Ltd.

29. Dream Rising Co., Ltd.

30. Eco-Friendly Floor Ltd.

31. Ejen Brother Limited.

32. Everglow Inc.

33. Everleading International Inc.

34. Faithful Engineering Products Co. Ltd.

35. Fastening Care.

36. Fastgrow International Co. Inc.

37. Foshan Hosontool Development Hardware Co. Ltd.

38. GD CP International Ltd.

39. GDCP International Co., Ltd.

40. Glori-Industry Hong Kong Inc.

41. Guangdong Meite Mechanical Co. Ltd.

42. Guangdong TC Meite Intelligent Tools Co., Ltd.

43. Hangzhou Orient Industry Co., Ltd.

44. Hebei Jindun Trade Co., Ltd.

45. Hebei Minghao Imp. & Exp. Co. Ltd.

46. Hengtuo Metal Products Co. Ltd.

47. Home Value Co., Ltd.

48. Hongkong Shengshi Metal Products Co., Ltd.

49. Hongyi (HK) Hardware Products Co. Ltd.

50. Huaiyang County Yinfeng Plastic Factory.

51. Hualude International Development Co. Ltd.

52. Huanghua Haixin Hardware Products Co., Ltd.

53. Huanghua Yingjin Hardware Products.

54. Inmax Industries Sdn. Bhd.

55. ITW Construction Products.

56. Jade Shuttle Enterprise Co. Ltd.

57. Jiang Men City Yu Xing Furniture Limited Company.

58. Jiangsu General Science Technology Co. Ltd.

59. Jiangsu Holly Corporation.

60. Jiangsu Huaiyin Guex Tools.

61. Jiangsu Inter-China Group Corp.

62. Jiangu Soho Honry Imp. and Exp. Co. Ltd.

63. Jiaxing TSR Hardware Inc.

64. Jinsco International Corp.

65. Jinsheung Steel Corporation.

66. Koram Inc.

67. Korea Wire Co. Ltd.

68. Liang's Ind. Corp.

69. Liaocheng Minghui Hardware Products.

70. Linyi FlyingArrow Imp. & Exp. Co Ltd.

71. M&M Industries Co., Ltd.

72. Maanshan Lilai International Trade Co. Ltd.

73. Max Co., Ltd.

74. Milkway Chemical Supply Chain Service Co., Ltd.

75. Mingguang Abundant Hardware Products Co. Ltd.

76. Modern Factory For Metal Products.

77. Nailtech Co. Ltd.

78. Nanjing Nuochun Hardware Co. Ltd.

79. Nanjing Tianxingtong Electronic Technology Co. Ltd.

80. Nanjing Tianyu International Co. Ltd.

81. Nanjing Toua Hardware & Tools Co. Ltd.

82. Nanjing Zeejoe International Trade.

83. Nantong Intlevel Trade Co., Ltd.

84. Natuzzi China Limited.

85. Nielsen Bainbridge LLC.

86. Ningbo Adv. Tools Co. Ltd.

87. Ningbo Angelar Trading Co., Ltd.

88. Ningbo Fine Hardware Production Co. Ltd.

89. Ningbo Freewill Imp. & Exp Co., Ltd.

90. Ningbo Langyi Metal Products Co., Ltd.

91. Ningbo Sunrise International Ltd.

92. Ningbo WePartner Imp. & Exp. Co., Ltd.

93. Overseas Distribution Services Inc.

94. Overseas International Steel Industry.

95. Paslode Fasteners Co. Ltd.

96. Patek Tool Co. Ltd.

97. President Industrial Inc.

98. Promising Way (Hong Kong) Ltd.

99. Qingda Jisco Co. Ltd.

100. Qingdao Ant Hardware Manufacturing Co. Ltd.

101. Qingdao D&L Hardware Co. Ltd.

102. Qingdao Gold Dragon Co. Ltd.

103. Qingdao Hongyuan Nail Industry Co. Ltd.

104. Qingdao JCD Machinery Co., Ltd.

105. Qingdao Meijialucky Industry and Co.

106. Qingdao MST Industry and Commerce Co. Ltd.

107. Qingdao Powerful Machinery Co., Ltd.

108. Qingdao Top Metal Industrial Co., Ltd.

109. Qingdao Top Steel Industrial Co. Ltd.

110. Qingdao Uni-Trend International.

111. Quzhou Monsoon Hardware Co. Ltd.

112. Rise Time Industrial Ltd.

113. Romp Coil Nail Industries Inc.

114. R-Time Group Inc.

115. Ruifeng Hardware Products Co., Ltd.

116. Senco Asia Manufacturing Ltd.

117. Shandong Dinglong Imp. & Exp. Co., Ltd.

118. Shandong Liaocheng Minghua Metal Pvt. Ltd.

119. Shanghai Cedargreen Imp. & Exp. Co., Ltd.

120. Shanghai Curvet Hardware, Co., Ltd.

121. Shanghai Haoray International Trade Co. Ltd.

122. Shanghai Seti Enterprise Int'l Co. Ltd.

123. Shanghai Sutek Industries Co., Ltd.

124. Shanghai Yiren Machinery Co., Ltd.

125. Shanghai Yueda Fasteners Co., Ltd.

126. Shanghai Yueda Nails Co. Ltd.

127. Shanghai Zoonlion Industrial Co., Ltd.

128. Shanxi Easyfix Trade Co. Ltd.

129. Shanxi Xinjintai Hardware Co., Ltd.

130. Shaoxing Chengye Metal Producing Co. Ltd.

131. Shenzhen Xinjintai Hardware Co. Ltd.

132. Stanley Black & Decker, Inc.

133. Sueyi International Ltd.

134. Sumec Machinery and Electric Co., Ltd.

135. Suzhou Xingya Nail Co. Ltd.

136. Taizhou Dajiang Ind. Co. Ltd.

137. Test-Rite International Co., Ltd.

138. Theps International.

139. Tianji Hweschun Fasteners Manufacturing Co. Ltd.

140. Tianjin Baisheng Metal Products Co. Ltd.

141. Tianjin Bluekin Indusries Ltd.

142. Tianjin Coways Metal Products Co. Ltd.

143. Tianjin Dagang Jingang Nail Factory.

144. Tianjin Evangel Imp. & Exp. Co. Ltd.

145. Tianjin Fulida Supply Co. Ltd.

146. Tianjin Huixingshangmao Co. Ltd.

147. Tianjin Jin Xin Sheng Long Metal Products Co. Ltd.

148. Tianjin Jinghai Yicheng Metal Pvt.

149. Tianjin Jinlin Pharmaceutical Factory.

150. Tianjin Jinmao Imp. & Exp. Corp. Ltd.

151. Tianjin Lianda Group Co. Ltd.

152. Tianjin Liweitian Metal Technology

153. Tianjin Tianhua Environmental Plastics Co. Ltd.

154. Tianjin Yong Sheng Towel Mill.

155. Tianjin Yongye Furniture Co. Ltd.

156. Tianjin Zhonglian Times Technology.

157. Tianjin Zhongsheng Garment Co. Ltd.

158. Tinjin Tiaolai Import & Export Company Ltd.

159. Tsugaru Enterprise Co., Ltd.

160. Unicorn Fasteners Co. Ltd.

161. Verko Incorporated.

162. Win Fasteners Manufactory (Thailand) Co. Ltd.

163. Wire Products Manufacturing Co., Ltd.

164. Wulian Zhanpeng Metals Co. Ltd.

165. Xiamen Zhaotai Industrial Corp.

166. Yongchang Metal Product Co.

167. Youngwoo Fasteners Co., Ltd.

168. Yuyao Dingfeng Engineering Co. Ltd.

169. Zhanghaiding Hardware Co., Ltd.

170. Zhangjiagang Longxiang Industries Co. Ltd.

171. Zhaoqing Harvest Nails Co. Ltd.

172. Zhejiang Best Nail Industry Co. Ltd.

173. Zhejiang Jihengkang (JHK) Door Ind. Co. Ltd.

174. Zhejiang Saiteng New Building Materials Co., Ltd.

175. Zhejiang Yiwu Yongzhou Imp. & Exp. Co. Ltd.

176. Zhong Shan Daheng Metal Products Co. Ltd.

177. Zhong Shan Shen Neng Metals Products Co. Ltd.

178. Zhucheng Jinming Metal Products Co. Ltd.

179. Zhucheng Runfang Paper Co. Ltd.

180. Beijing Camzone Industry & Trading Co., Ltd.

181. Qingdao YuanYuan Metal Products LLC.

182. Shanxi Fastener & Hardware Products.

Appendix II

List of Topics Discussed in the Preliminary Decision Memorandum

I. Summary

II. Background

III. Scope of the Order

IV. Discussion of the Methodology

V. Use of Application of Facts Otherwise Available

VI. Use of Adverse Inference

VII. Sample Rate Calculation

VIII. Surrogate Country

IX. Date of Sale

X. Normal Value Comparisons

XI. Factor Valuation Methodology

XII. Comparisons to Normal Value

XIII. Currency Conversion

XIV. Recommendation

[FR Doc. 2019-22763 Filed 10-17-19; 8:45 am]

BILLING CODE 3510-DS-P